DEPARTMENT OF ENERGY

Western Area Power Administration

Record of Decision and Floodplain Statement of Findings for the Trinity Public Utilities District Direct Interconnection Project (DOE/EIS-0389)

AGENCY: Western Area Power Administration, DOE.

ACTION: Record of Decision.

SUMMARY: The Western Area Power Administration (Western) intends to construct the Trinity Public Utilities District (PUD) Direct Interconnection Project (Project) in Trinity County, California. Consumers in the Trinity PUD service area routinely experience nearly 20,000 consumer hours per year in outages, according to the Trinity PUD. In the winter, many of the outages last three to four days before power can be restored. Western's Project would improve power system reliability in the area by providing a direct interconnection between Trinity PUD and Western's transmission system at the Trinity Power Plant. Western proposes to remove about 5.3 miles of existing 12-kilovolt (kV) distribution line, and construct, operate, and maintain about 16 miles of new 60-kV transmission line, a three-way switching structure and associated equipment, and a new switchyard. The Project would connect to Trinity PUD's system at its Lewiston Substation and at the new Weaverville Switchyard. Western is the lead Federal agency, and the U.S. Forest Service (USFS), U.S. Bureau of Land Management (BLM), and U.S. Bureau of Reclamation (Reclamation) are cooperating agencies that participated in the preparation of the environmental impact statement (EIS). Full implementation of the decision to construct this Project is contingent upon obtaining all applicable permits and approvals.

FOR FURTHER INFORMATION CONTACT: Mr. Stephen Tuggle, Natural Resources Manager, Sierra Nevada Customer Service Region N1400, Western Area Power Administration, 114 Parkshore Drive, Folsom, CA 95630-4710; telephone (916) 353-4549; e-mail tuggle@wapa.gov. Copies of the EIS are available from Mr. Tuggle. For information about the DOE National Environmental Policy Act (NEPA) process, contact Ms. Carol M. Borgstrom, Director, Office of NEPA Policy and Compliance, GC-20, U.S. Department of Energy, 1000 Independence Avenue, SW., Washington, DC 20585, telephone (800) 472-2756.

SUPPLEMENTARY INFORMATION: Western prepared an environmental impact statement entitled “Environmental Impact Statement; Trinity Public Utilities District Direct Interconnection Project” (DOE/EIS-0389) on its proposal to construct, operate, and maintain power transmission facilities in Trinity County, California. Portions of the proposed Project would cross lands managed by the USFS, BLM, and Reclamation. Western is the lead Federal agency, as defined by 40 CFR 1501.5; USFS, BLM, and Reclamation are cooperating agencies that participated in the preparation of the EIS. The EIS is intended to satisfy the requirements of NEPA for each Federal agency's decision related to the siting, construction, operation, and maintenance of the proposed action. The decisions to be made by Western, USFS, BLM, and Reclamation regarding the proposed action, also referred to as the Project, are quite different and specific to each agency's needs and requirements. Therefore, each agency intends to issue a separate Record of Decision (ROD) based on the information presented in the EIS.

The Trinity PUD is a small utility district in northern California serving approximately 16,000 consumers. The Trinity PUD is connected to the California Independent System Operator-controlled electrical grid by 60-kV transmission facilities owned and maintained by Pacific Gas and Electric Company (PG&E). Although transmitted through the PG&E system, the Trinity PUD receives 100 percent of its power from Western. The Trinity River Division (TRD) Act provides for the construction, operation, and maintenance of the TRD facilities of the Central Valley Project, composed of the Trinity Dam, Lewiston Dam, and Clear Creek Tunnel. 69 Stat. 719 (1955). The TRD Act also authorizes Western to construct, operate, and maintain transmission facilities to deliver Federal power and to furnish energy in Trinity County. 69 Stat. 719 (1955).

Consumers in the Trinity PUD service area routinely experience nearly 20,000 consumer hours per year in outages, according to the Trinity PUD. In the winter, many of the outages last three to four days before power can be restored. Restoring service is difficult because of the remote location and rough terrain.

Western's proposed Project would improve power system reliability in the area by providing a direct interconnection between Trinity PUD and Western's transmission system at the Trinity Power Plant. Western proposes to remove about 5.3 miles of existing 12-kV distribution line, and construct, operate, and maintain about 16 miles of new 60-kV transmission line, a three-way switching structure and associated equipment, and a new switchyard. Trinity PUD will be partnering in restoring this line during emergency outages.

Alternatives Considered

Proposed Action

Western proposes to construct the Trinity PUD Direct Interconnection Project in Trinity County, California, in portions of Townships 33 and 34 North, and Ranges 8 and 9 West, Mt. Diablo Meridian. The main component of the Project would be an approximately 16-mile-long, 60-kV overhead transmission line called the Trinity County Direct Interconnection, which would connect Western's Trinity Substation to a new Weaverville Switchyard and one mile of tap line to connect to Trinity PUD's Lewiston Substation. The proposed action would remove 5.3 miles of the existing Trinity-Lewiston 12-kV distribution line and utilize the vacated right-of-way (ROW) for the new 60-kV transmission line. New ROW would be needed for the rest of the line. At about Mile 6.5 on the transmission line, a tap line would depart from a three-way switching structure and proceed south to connect with Trinity PUD's Lewiston Substation. The Project would terminate at a new small switchyard near State Route 299 south of Weaverville, and would connect to existing lines at that location. Use of existing access roads would be maximized, with improvements made where needed, and a total of about two miles of new short spurs would be constructed. A more detailed description of the proposed action by segment follows.

For Segment 1, Western would remove the existing conductor and poles for 5.3 miles of the Trinity-Lewiston 12-kV distribution line. The existing cleared ROW for the Trinity PUD line would then be expanded from about 20-feet wide to 80 feet to accommodate installation of the new 60-kV transmission line. Segment 1 would follow the existing ROW from Trinity Substation down river approximately 6.5 miles toward Lewiston, terminating at a steel pole three-way switching structure located about 1.5 miles west of Lewiston Dam. Segment 1 would cross the Trinity River at two locations: below the Trinity Dam and below the Lewiston Dam near the Trinity River Fish Hatchery. The existing ROW runs through the steep and rugged terrain of the Shasta-Trinity National Forest, crossing ridge tops and gullies. The land in Segment 1 is primarily National Forest System land administered by the USFS, and portions of it are within the boundaries of the Shasta-Trinity National Recreation Area. However, about one mile of Segment 1 is administered by Reclamation, 0.5 mile is owned by Sierra Pacific Industries (SPI), 0.25 mile is privately owned, and a small portion of the Segment crosses BLM land.

For Segment 2, Western would acquire an 80-foot ROW to build a new 60-kV transmission line, approximately one mile in length, south from the three-way switching structure near Mile 6.5 to the existing Trinity PUD Lewiston Substation. The switching structure would accommodate the incoming line from Trinity Substation (Segment 1), the tap line down to the Lewiston Substation (Segment 2), and the new transmission line segment to the proposed Weaverville Switchyard (Segment 3). Segment 2 would parallel an existing Trinity PUD distribution line, which runs south along Trinity Dam Boulevard and Rush Creek Road, and along the Trinity River, to Lewiston Substation. Segment 2 crosses a mix of USFS, BLM, SPI, and other privately-owned land. Existing access roads associated with the distribution line would be used, with newly constructed short spurs up to the new line from the existing access roads. Trinity Dam Boulevard and Rush Creek Road follow the Trinity River on the west side in this location, and the existing Trinity PUD distribution line is west of the road. The proposed tap line would be located further to the west, west of the Trinity PUD line. The Trinity PUD line would thus be between the proposed line and these roads.

For Segment 3, Western would acquire an 80-foot wide ROW to build a new 60-kV transmission line from the switching structure near Mile 6.5 near Lewiston to a new switchyard to be constructed near Weaverville. Segment 3 would be approximately 8.5 miles long. Approximately one mile of Segment 3 would parallel the existing PG&E Cottonwood-Humboldt 115-kV Transmission Line. The Segment 3 corridor would also run through steep and rugged terrain and would closely follow an existing logging road. About 0.25 mile is owned by other private land owners. The land in Segment 3 is owned primarily by SPI and managed for timber production. The remaining land is managed by BLM. The proposed action would require new ROW and use existing and upgraded existing access roads and new, short spur roads.

As part of the proposed action, Western would also construct a small 90-by-110-foot switchyard south of the town of Weaverville. Weaverville Switchyard would be located at the southern terminus of the transmission line and would be located approximately two miles south of the center of Weaverville and just east of State Route 299. The new switchyard would allow the Project to connect with the existing PG&E radial Trinity-Douglas City 60-kV Transmission Line. The existing PG&E line would be acquired by Trinity PUD. Permission to occupy the proposed Weaverville Switchyard would be initially obtained through a ROW grant from the BLM. Eventually, Western would request conveyance of the site through sale, pursuant to section 203 of the Federal Land Policy and Management Act (FLPMA; 43 U.S.C. 1713), as applicable. Access to the proposed Weaverville Switchyard would be off State Route 299, using an abandoned section of that highway.

The 60-kV new transmission line would be constructed on single wood poles ranging from 50 to 105-feet tall. The span between poles would average 350 feet, ranging from a minimum of 100 feet to a maximum of 500 feet, with some longer or shorter spans depending on topography and other factors. There would be an average of 16 pole locations per mile, with an approximate total of 261 pole locations for the entire Project. About 11 structures would be three-pole turning structures. The turning structures and approximately 95 additional single poles would be guyed with wire cable to anchors in the ground. The anchors would consist of steel screw anchors in soil, an eight-foot anchor rod with plate in fractured rock, or a grouted rod in solid rock. Anchors would be buried approximately six feet in the ground.

In addition to the wood poles, up to 10 self-supporting self-rusting steel structures, directly embedded or with rectangular concrete foundations, may be required for large spans or for increased stability. A steel three-way switch structure would be installed near Mile 6.5, west of the Trinity River Fish Hatchery. The switch and associated operating shafts and mechanism housing would be installed on the structure. The switch structure would be constructed of Cor-ten steel, which is self-rusting to a flat, dark brown surface, resulting in a less visible structure.

Other Alternatives

Western considered alternatives during the Project planning process. System and route alternatives, as described below, were considered prior to defining the proposed action. Among Western's planning objectives were to locate the new transmission line along the shortest route with the fewest landowners and to utilize existing transmission corridors and access roads to the maximum extent possible. The proposed action met the purpose and need of Western and the participating agencies.

Four main system alternatives were developed that could possibly meet the objective of improving electric reliability by establishing a new direct interconnection:

System Alternative 1 consisted of parallel Western and PG&E transmission lines via a new 230- to 60-kV transmission interconnection between Western's 230-kV transmission system at Trinity Dam and near the Trinity PUD's Douglas City 60-kV Substation. This alternative would result in an overloaded element because of the parallel connection between Western and PG&E, as well as overloads due to contingency conditions. The levels of overloading suggest that the current carrying capacity of a 60-kV transmission line would be inadequate for a configuration of this type. Increasing the equipment voltage would greatly increase Project costs; therefore, this alternative would not be feasible. This alternative would not improve the current operational concerns.

System Alternative 2 was the same as Alternative 1, except that Western's and PG&E's transmission lines would not be operated in parallel. The two lines would be isolated via a set of disconnect switches located between PG&E's Trinity Substation and Trinity PUD's Mill Street Substation. This configuration would allow Trinity PUD to operate as a radial load served solely by Western's transmission system. This alternative would result in no overloads during normal or contingency operations. However, should an outage occur on this transmission line, Trinity PUD loads would be without power until Western service could be restored or until PG&E could close the switches between Trinity Substation and Mill Street Substation.

Under System Alternative 3, Western's and PG&E's transmission lines would run in parallel via an interconnection near Western's 230-kV J.F. Carr Substation. This design would consist of looping PG&E's Cottonwood-Trinity 115-kV transmission line into a new 230/115-kV substation in or adjacent to Western's Carr Substation. This alternative would result in no overloads during normal operations, but it would result in severe overloads during contingency operations, suggesting that the 115-kV transmission line would have inadequate current-carrying capacity for contingency situations. Increasing the equipment voltage would greatly increase the Project costs; therefore, this alternative was not found to be feasible.

System Alternative 4 would be a pair of parallel Western and PG&E transmission lines. It would involve looping PG&E's Cascade-Lewiston 60-kV transmission line into a new 230/60-kV substation in or adjacent to Western's J.F. Carr 230-kV Substation. This alternative would result in overloads for both normal and contingency operations, in some cases in excess of 500 percent, suggesting that the 115-kV transmission line would have inadequate current-carrying capacity for contingency situations. Increasing the equipment voltage would also greatly increase Project costs; for these reasons this alternative would not be feasible.

The system design selected for the Project was the only system alternative found to be technically viable and economically feasible.

Other alternatives considered included several different routings for the Project. Four main routing alternatives were considered, which are summarized below:

Routing Alternative 1 was an alternative alignment of Segment 1, from the Trinity Power Plant to the Lewiston Substation. With this alternative alignment, the line would follow along County Road 105, on the west side of the Trinity River from Trinity Dam to Lewiston Lake. There is an existing 12-kV distribution line along this route, the “Westside” line. However, this line is being used to serve existing residential customers in the vicinity and cannot be overbuilt with the proposed line. Overbuilding this line would cause problems for the existing customers, including a long outage time during replacement of the line. The existing 12-kV line passes over mobile home residences along its route. This situation is allowed for distribution-level lines, but buildings under transmission lines are not allowed by code. The existing line is already closer to County Road 105 than the standards in the Whiskeytown-Shasta-Trinity National Recreation Area (36 CFR 292.13(c)(1)). A transmission line on the existing ROW or adjacent to it would not be consistent with the 150-foot buffer zone established by this regulation. Additionally, a 60-kV line would require more ground clearance and would have to be built higher, requiring new ROW. This alignment would also disturb a larger amount of residential, recreational, and wildlife habitat lands than would the proposed action, and it would require additional rerouting of the line. The USFS also preferred a location of the transmission line on the east side of the Trinity River within the existing distribution line ROW, which would place it within a previously disturbed area; create less impacts to residential, recreational, and wildlife habitat lands; create less new visual resource elements; and be more consistent with USFS land management guidelines. The “Westside” routing option was found to be associated with a number of serious issues at the concept level, and since it offered no offsetting advantages, it was dropped from further consideration.

Routing Alternative 2 is an alternative alignment of Segment 2, the tap line from Lewiston Tap to Lewiston Substation. With this alternative alignment, the tap line would follow a similar path to Segment 2 of the Project, but it would be located further west of Trinity Dam Boulevard. This option was briefly considered to potentially reduce visual impacts from Trinity Dam Boulevard. This alignment would require more clearing and access road construction and a longer tap line than would the proposed action, and would result in more impact to undisturbed and recreational land.

Segment 2, as described above for the proposed action, would parallel an existing Trinity PUD distribution line along Trinity Dam Boulevard. Existing access roads would be used, thereby limiting the need for additional clearing and access road construction. The route would also be shorter than for Routing Alternative 2. The USFS preferred a more eastern location of the tap line adjacent to an existing Trinity PUD line, which would place it within a previously disturbed area with existing access roads; create less impact to recreational lands; and be more consistent with USFS land management guidelines. Since field investigation determined that the routing option did not offer improved visual screening sufficient to warrant incurring the increased disturbance impacts, this alignment alternative was not pursued further.

Routing Alternative 3 is an alternative alignment of the western terminus of the line (Segment 3) that would cross further north than described for the proposed action. This alignment was initially part of the proposed action, as it would parallel the PG&E Cottonwood-Humboldt 115-kV transmission line, consolidate ROWs, and utilize existing PG&E access roads. However, for the past several years, Trinity County has been considering replacing the existing Weaverville Airport with a new airport at a new location. This alternative alignment would pass through the new airport location favored by Trinity County. To avoid compromising this possible airport location, Routing Alternative 3 was dropped from further consideration.

Western continued to investigate possible alternatives to the proposed action even as the Draft EIS was published. Routing Alternative 4, an underwater cable alternative that would replace Segment 1, was identified and evaluated for viability. Under this alternative, the 60-kV line would exit the Trinity Substation and immediately change into an underwater cable as it entered the Trinity River next to the substation. The underwater cable would continue downstream in the river (actually the upper reaches of Lewiston Lake), extend through most of Lewiston Lake, and exit the lake at a point nearest to the three-way switch location west of the fish hatchery. This alternative would end at the three-way switch location.

Advantages of this alternative would include the elimination of both Trinity River crossings, avoidance of all the rugged terrain through the Shasta-Trinity National Forest, and avoidance of impacts to terrestrial species in Segment 1. However, a number of technical issues related to laying and maintaining an underwater cable were identified. Preliminary estimates of the costs of materials indicated that underwater cable would be prohibitively expensive for small projects like the proposed action, even before the additional costs of resolving the technical issues were known. Since power system reliability is a key component of Western's purpose and need, and the costs of this alternative were not economically feasible, the underwater alternative was determined not to be viable, and it was eliminated from further consideration.

No Action Alternative

Under the no action alternative, no upgrades or rebuilds to the existing transmission line system would be constructed in the Trinity area, and the existing 12-kV distribution line would be left in place. For the PG&E lines currently serving the Trinity PUD load, structures and hardware would be maintained, repaired, and/or replaced as required during routine maintenance activities or in the event of emergency outages of the transmission lines. Repairs and maintenance would increase in frequency as the transmission lines aged.

Implementing the no action alternative would preclude most of the anticipated effects to the environment that would be associated with the Project. Long-term adverse socioeconomic impacts might occur as a result of the no action alternative, because regional electric demands would not be met and unreliable delivery and shortages would continue to occur.

Under the no action alternative, other actions and construction activities with associated adverse environmental effects could be required to improve the electric system and provide reliable electric power in the area. Ongoing maintenance activities related to the existing transmission lines, including vegetation management, would have continuing visual and environmental effects on a periodic basis.

Agency Preferred Alternative

After reviewing potential environmental impacts, Western identified the proposed action as the Agency Preferred Alternative. The proposed action would result in more environmental impact than the no action alternative but, with committed mitigation, no impacts were found to be significant.

Public Involvement

A Notice of Intent (NOI) describing the proposed action was published in the Federal Register (FR) on June 19, 2006 (71 FR 35266). The NOI announced the intent to prepare an EIS on the proposed Project, described the proposal, provided scoping meeting locations and dates, started a 30-day scoping comment period, and provided contacts for further information about the proposed Project and for submitting scoping comments. In addition to the NOI published in the FR, a local NOI newsletter was sent to everyone on the Project mailing list, which included agencies, groups, tribes, and local landowners. Advertisements were also published in local newspapers to announce the upcoming public scoping period and meetings and provide contacts for comments.

The FR notice, the local NOI, and the newspaper ads announced a 30-day comment period for scoping the EIS. During the 30-day comment period, Western held two public scoping meetings: on July 10, 2006, at the Best Western Victorian Inn, Weaverville, California, and on July 11, 2006, at the Oxford Suites, Redding, California. Two comments were received from one commenter during the scoping period. The Project was also listed in the USFS Schedule of Proposed Actions (SOPA) beginning in April 2005. The SOPA is available online at http://www.fs.fed.us/sopa/.

The Draft EIS was circulated to Federal, State, regional, and local agencies, tribes, and interested individuals and organizations that may have wished to review and comment on it. Publication of the Draft EIS marked the beginning of a 45-day public review period that ended March 26, 2007. Western held public hearings during the Draft EIS review period on March 6, 2007, at the Best Western Victorian Inn in Weaverville, California, and on March 7, 2007, at the LaQuinta Inn in Redding California. These hearings were also announced by newspaper ads and direct mailings to the Project mailing list. The hearings were part of the Western's continuing efforts to provide opportunities for public participation in the decision-making process. Western received 18 written comment letters that represented 16 different individuals, and public and private organizations. Two individuals also provided comments orally at the public hearing in Weaverville. No members of the public attended the hearing in Redding.

A number of issues pertaining to the analyses in the Draft EIS were raised in public comments. Among these issues were: (1) Concerns regarding erosion control to prevent the sedimentation of streams as a result of construction traffic going over stream crossings, (2) Specific permitting and mitigation measures addressing such erosion, (3) Estimation of the extent of direct and cumulative impacts from the proposed Project, and (4) Analysis of impacts to the northern spotted owl (Strix occidentalis caurina). These issues, along with other comments, were addressed in the Final EIS. No additional comments were received during the Final EIS waiting period.

Environmental Impacts

The analysis in the EIS demonstrated that the Project would have no environmental impact or minor impacts on geology, land use, paleontological resources, public health and safety, socioeconomics, environmental justice, and wilderness. Temporary and less-than-significant environmental impacts associated with construction activities were identified for air quality, noise, hazardous materials, traffic and transportation, and recreation. Potentially long-term significant environmental impacts were described for biological resources, cultural resources, soils, and water resources.

For biological resources, the principal concern is for potential impacts to the northern spotted owl and its habitat, and anadromous fish species below Lewiston Dam. The USFS conducted section 7 consultation with the U.S. Fish and Wildlife Service (USFWS), and received a Biological Opinion on November 5, 2007. The Biological Opinion concluded that, compliance with the stipulated terms and conditions, the proposed action is not likely to destroy or adversely modify designated critical habitat for the northern spotted owl, and may affect but is not likely to adversely affect the northern spotted owl and bald eagle. Western conducted section 7 consultation with the National Marine Fisheries Service (NMFS) on listed anadromous fish species. With a July 11, 2007, letter, NMFS concurred with a “may affect, but is not likely to adversely affect” determination for the federally threatened Southern Oregon/Northern California Coast coho salmon or its habitat, and for delineated Essential Fish Habitat for Pacific Coast salmon, which includes both coho and Chinook salmon.

Cultural resources Class III surveys were conducted on the area of potential effect defined for the Project. No prehistoric sites were found, but 21 historical sites mostly associated with historic mining activities were recorded. Western intends to avoid all of these sites to the extent possible, but two sites may be impacted by the Project. Western will mitigate impacts on any historic properties that may be adversely affected in consultation with the State Historic Preservation Office (SHPO) and affected land management agencies. A signed Programmatic Agreement among Western, the Federal land management agencies, and the SHPO will govern any remaining section 106 consultation activities, including any change in anticipated Project impacts or new cultural resources discoveries made during construction.

For soils, the main concern is sedimentation from disturbed areas. The Project has been designed to minimize ground disturbance by using existing ROW, using existing access roads, locating new ROW adjacent to existing access roads, and by limiting the need for new temporary access roads. The Federal land management agencies have extensive experience with erosion control, and have developed standard environmental protection measures found to be effective in minimizing erosion in the local area. These measures are described and committed to in the EIS, and would prevent significant erosion from occurring. In addition, a cumulative watershed analysis was conducted and is included in the EIS. Access road improvements on existing access roads, such as grading ruts and installing water bars to Federal land management agency standards, may actually reduce current levels of erosion and sedimentation from this source.

Water resources concerns are directly related to erosion and sedimentation. Limiting erosion and sedimentation as discussed above will minimize the risk of sediment input into water bodies. Crossings of drainages and streams will be coordinated with and permitted by the U.S. Army Corps of Engineers and State Regional Water Quality Control Board, and Western will comply with any conditions specified in those permits. In addition, the Federal land management agencies have drainage crossing requirements and best management practices that will govern crossings in their respective jurisdictions. In general, Western's approach will be to limit any disturbance in drainage crossings to the minimum necessary for safe equipment passage. In most cases, access will be via existing access roads that have low water crossings.

Construction, operation, and maintenance would be in compliance with the requirements of the USFS, BLM, Reclamation, U.S. Army Corps of Engineers, and State Regional Water Quality Control Board. All of these agencies have specific requirements as part of their respective approval and permitting processes. In addition, the EIS identified extensive best management practices and mitigation measures, all of which are committed to with this ROD and Western's Mitigation Action Plan (MAP). With implementation of these requirements and measures, all identified potential impacts would be reduced to less-than-significant levels.

Mitigation Measures

All measures identified in the EIS to minimize impacts from the transmission system additions have been adopted. Table 2-2 in section 2.6.1 of the EIS includes an extensive listing of specific mitigation measures by resource. In addition, sections 2.6.2, 2.6.3, 2.6.4, and 2.6.5 of the EIS list the environmental protection measures of Western, USFS, BLM, and Reclamation, respectively. Many of these mitigation measures and environmental protection measures are related to the four most sensitive resources discussed above. All of these measures have been consolidated into Western's MAP, which assigns responsibility for and tracks the implementation of these commitments. The MAP also includes expected terms and conditions for the various permits necessary for the Project, such as the 28 general conditions for a Nationwide 12 section 404 permit.

Western is the lead Federal agency for compliance with section 106 of the National Historic Preservation Act. Western's preferred form of mitigation is to avoid all identified sites. To the extent possible, cultural sites determined eligible for the National Register in consultation with the California SHPO and interested tribes will be avoided by Project activities. Cultural sites that cannot be avoided will be mitigated in accordance with the Programmatic Agreement developed for the proposed Project, which will govern all remaining activities necessary for section 106 compliance.

The USFS is the lead Federal agency for compliance with section 7 of the Endangered Species Act, as amended. A biological assessment was prepared and submitted to the USFWS with a determination that the Project “may affect but is not likely to adversely affect” any candidate, proposed, or listed species. The USFWS Biological Opinion of November 5, 2007, includes terms and conditions which will be complied with as additional mitigation to avoid impacts to threatened, endangered, candidate, or proposed species.

Floodplain Statement of Findings

In accordance with 10 CFR part 1022, Western considered the potential impacts of the Project on floodplains and wetlands. The Project area is located in a mountainous region with incised drainage channels and some permanent streams. The transmission line in Segment 2 would span the 100-year floodplain of Rush Creek. Rush Creek at this location is considered Zone A, a special flood hazard area inundated by 100-year floods. No base flood elevations have been determined for this location. The 500-year floodplain areas are located south of the Project ROW, also along Rush Creek. All remaining portions of the Project ROW are located in Zone X, areas determined to be outside the 500-year floodplain. Construction of the Project would not substantially alter the normal drainage patterns or affect runoff rates because drainage patterns would not be altered, use of existing roads would be maximized, and the line would span the floodplains. Even if poles were to be located in a floodplain area, they would not contribute to the impedance of flood flows in this heavily forested area. No wetlands would be affected by the construction or operation of the Project.

Mitigation Action Plan

A MAP will be developed in accordance with 10 CFR 1021.331 that addresses mitigation commitments described above. The MAP will explain how the mitigation will be planned and implemented and will be available upon request.

Decision

Western's decision is to construct the Trinity PUD Direct Interconnection Project as described above and in the EIS. Western will construct, own, operate, and maintain the transmission line and associated facilities.

This decision is based on the information contained in the “Environmental Impact Statement; Trinity Public Utilities District Direct Interconnection Project” (DOE/EIS-0389); (Draft EIS issued February 2007, and Final issued November 2007). This ROD has been prepared in accordance with Council on Environmental Quality regulations for implementing NEPA (40 Code of Federal Regulations [CFR] parts 1500-1508) and DOE Procedures for Implementing NEPA (10 CFR part 1021), and DOE's Floodplain/Wetland Review Requirements (10 CFR 1022). Full implementation of this decision is contingent upon the Project obtaining all applicable permits and approvals.

Dated: January 15, 2008.
Timothy J. Meeks,
Administrator.

[FR Doc. E8-1505 Filed 1-28-08; 8:45 am]

BILLING CODE 6450-01-P